FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 18, 2019.

A. Federal Reserve Bank of Dallas (Robert L. Triplett III, Senior Vice President) 2200 North Pearl Street, Dallas, Texas 75201-2272:

1. Donna Richards Foster, Darla Janice Richards, and Debbie R. Leinenbach, all of Throckmorton, Texas; as a group acting in concert, to retain voting shares of Woodson Bancshares, Inc., and thereby indirectly retain shares of First State Bank, both of Graham, Texas.

2. Edwin M. Payne, Pharr, Texas; to retain voting shares of Greater State Bancshares Corp., and thereby indirectly retain shares of Greater State Bank, both of McAllen, Texas.

B. Federal Reserve Bank of Kansas City (Dennis Denney, Assistant Vice President) 1 Memorial Drive, Kansas City, Missouri 64198-0001:

1. Jerry R. and Dorothy J. Cater Children's Trust U/T/A dated November 29, 1989 (“Trust”), and Robert M. Cater and Craig H. Plaster, both of Moberly, Missouri, as trustees of the Trust; to acquire voting shares of RMB Bancshares, Inc., and thereby indirectly acquire shares of Regional Missouri Bank, both of Marceline, Missouri.

Board of Governors of the Federal Reserve System, August 29, 2019.
Yao-Chin Chao,
Assistant Secretary of the Board.

[FR Doc. 2019-19057 Filed 9-3-19; 8:45 am]

BILLING CODE P